FEDERAL COMMUNICATIONS COMMISSION

47 CFR Part 73

[DA 02-2389, MM Docket No. 01-65; RM-10078, RM-10188 & RM-10189]

Radio Broadcasting Services; Brandon, SD; Emmetsburg, Sanborn and Sibley, IA

AGENCY: Federal Communications Commission.

ACTION: Final rule.

SUMMARY: This document substitutes Channel 261C3 for Channel 261A at Emmetsburg, Iowa, modifies the license for Station KEMB accordingly, and deletes vacant Channel 262A at Sibley, Iowa, in response to a petition filed by Eisert Enterprises, Inc. See 66 FR 15065, March 15, 2001. The coordinates for Channel 261C3 at Emmetsburg are 43-07-24 and 94-51-29. In response to the counterproposal filed by Eisert Enterprises (RM-10189), we shall allot Channel 264A at Sanborn, Iowa, at coordinates 43-10-53 and 95-39-23. The counterproposal filed by Saga Communications of Iowa (RM-10188) requesting the substitution of Channel 261C3 for vacant Channel 261A at Brandon, South Dakota, has been denied. With this action, this proceeding is terminated.

DATES: Effective November 12, 2002.

FOR FURTHER INFORMATION CONTACT: Kathleen Scheuerle, Media Bureau, (202) 418-2180.

SUPPLEMENTARY INFORMATION: This is a summary of the Commission's Report and Order, MM Docket No. 01-65, adopted September 25, 2002, and released September 27, 2002. The full text of this Commission decision is available for inspection and copying during regular business hours in the FCC Information Center, Portals II, 445 12th Street, SW., Room CY-A257, Washington, DC, 20554. The complete text of this decision may also be purchased from the Commission's duplicating contractor, Qualex International, Portals II, 445 12th Street, SW., Room CY-B402, Washington, DC, 20554, (202) 863-2893, facsimile (202) 863-2898, or via e-mail qualexint@aol.com.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Iowa, is amended by removing Channel 261A and adding Channel 261C3 at Emmetsburg, by removing Channel 262A at Sibley, and by adding Sanborn, Channel 264A.

Federal Communications Commission.
John A. Karousos,
Assistant Chief, Audio Division, Media Bureau.

[FR Doc. 02-26361 Filed 10-16-02; 8:45 am]

BILLING CODE 6712-01-P